DEPARTMENT OF TRANSPORTATION

National Highway Traffic Safety Administration

[Docket No. NHTSA-2014-0106; Notice 2]

Oreion Motors, LLC, Grant of Petition for Decision of Inconsequential Noncompliance

AGENCY: National Highway Traffic Safety Administration (NHTSA), Department of Transportation (DOT).

ACTION: Grant of petition.

SUMMARY: Oreion Motors, LLC (Oreion) has determined that certain 2011-2013 Oreion Reeper low speed vehicles, do not fully comply with paragraph S5.(b)(10) of Federal Motor Vehicle Safety Standard (FMVSS) No. 500 which requires installation of seat belts that conform to FMVSS No. 209, Seat Belt Assemblies. Oreion has filed an appropriate report dated August 13, 2014, pursuant to 49 CFR part 573, Defect and Noncompliance Responsibility and Reports.

ADDRESSES: For further information on this decision contact Stuart Seigel, Office of Vehicle Safety Compliance, the National Highway Traffic Safety Administration (NHTSA), Telephone (202) 366-5287, facsimile (202) 366-5930.

SUPPLEMENTARY INFORMATION:

I. Oreion's Petition: Pursuant to 49 U.S.C. 30118(d) and 30120(h) (see implementing rule at 49 CFR part 556), Oreion submitted a petition for an exemption from the notification and remedy requirements of 49 U.S.C. Chapter 301 on the basis that this noncompliance is inconsequential to motor vehicle safety.

Notice of receipt of the petition was published, with a 30-day public comment period, on November 21, 2014 in the Federal Register (79 FR 69556). No comments were received. To view the petition and all supporting documents log onto the Federal Docket Management System (FDMS) Web site at: http://www.regulations.gov/. Then follow the online search instructions to locate docket number “NHTSA-2014-0106.”

II. Low Speed Vehicles Involved: Affected are approximately 526 2011-2013 Oreion Reeper low speed vehicles originally manufactured with seatbelts manufactured by Changzhou Dongchen.

III. Noncompliance: Oreion explains that the noncompliance is that the seatbelts installed in the subject vehicles do not fully comply with the requirements of paragraph S5.(b)(10) of FMVSS No. 500 because the year that the seatbelts were manufactured is not included on the seatbelts as specified in paragraph S4.1(j) of FMVSS No. 209.

V. Rule Text: Paragraph S5.(b) of FMVSS No. 500 requires in pertinent part:

(b) Each low-speed vehicle shall be equipped with:

(10) A Type 1 or Type 2 seat belt assembly conforming to Sec. 571.209 of this part, Federal Motor Vehicle Safety Standard No. 209, Seat belt assemblies, installed at each designated seating position.

Paragraph S4.1(j) of FMVSS No. 209 requires in pertinent part:

S4.1(j) Marking. Each seat belt assembly shall be permanently and legibly marked or labeled with year of manufacture, model, and name or trademark of manufacturer or distributor, or of importer if manufactured outside the United States. . . .

V. Summary of Oreion's Analyses: Oreion stated its belief that the subject noncompliance is inconsequential to motor vehicle safety because the lack of the year of manufacture on the seat belt labels has no effect on the operational safety of the seat belts installed in the subject noncompliant vehicles.

Oreion also stated its belief that the seat belts in the subject vehicles have functioned as designed during normal use. They contend that this is supported by their observation that no vehicle owner has brought their vehicle back to a dealership for seat belt related repairs.

Oreion stated its awareness that the year date stamp may be used with the seat belt model number to identify seat belt assemblies recalled by the seat belt manufacturer. In the event of a safety related recall by the seat belt manufacturer, Oreion indicated that it will cooperate with the seat belt manufacturer to identify the vehicle owners of the vehicles containing affected seat belts without the need for the year stamp on the label. Oreion believes that that the model number and the build date of the vehicle will be sufficient to accomplish this task.

In summation, Oreion believes that the described noncompliance of the subject low speed vehicle's seat belt assemblies is inconsequential to motor vehicle safety, and that its petition, to exempt Oreion from providing recall notification of noncompliance as required by 49 U.S.C. 30118 and remedying the recall noncompliance as required by 49 U.S.C. 30120, should be granted.

NHTSA Decision

NHTSA Analysis: NHTSA has reviewed Oreion's analysis that the subject noncompliance is inconsequential to motor vehicle safety.

Paragraph S4.1(j) of FMVSS No. 209 requires that each seat belt assembly be permanently and legibly marked or labeled with the year of manufacture, model, and name or trademark of the manufacturer, distributor, or the importer (if the assemblies are manufactured outside the United States). The noncompliant vehicles are equipped with seat belt assemblies marked with the model number “DC-3000”, name of manufacturer “Changzhou Dongchen,” what appears to be a lot number “04 36275,” and other markings including “E4”, “XIA YE”, “DOT” and “Ar4m.” NHTSA believes that should the seat belts be the subject of a recall, the current labeling is sufficient to identify the affected seat belts as installed in the subject vehicles, even without the manufacturing date specified.

In addition, not labeling the year of manufacture has no bearing on compliance of the seat belts to the material or performance standards specified in FMVSS No. 209 and poses no risk to motor vehicle safety.

NHTSA Decision: In consideration of the foregoing, NHTSA has decided that Oreion has met its burden of persuasion that the FMVSS No. 500 noncompliance is inconsequential to motor vehicle safety. Accordingly, Oreion's petition is hereby granted and Oreion is exempted from the obligation of providing notification of, and a remedy for, that noncompliance under 49 U.S.C. 03118 and 30120.

NHTSA notes that the statutory provisions (49 U.S.C. 30118(d) and 30120(h)) that permit manufacturers to file petitions for a determination of inconsequentiality allows NHTSA to exempt manufacturers only from the duties found in sections 30118 and 30120, respectively, to notify owners, purchasers, and dealers of a defect or noncompliance and to remedy the defect or noncompliance. Therefore, this decision only applies to the subject noncompliant low speed vehicles that Oreion no longer controlled at the time it determined that the noncompliance existed. However, the granting of this petition does not relieve vehicle distributors and dealers of the prohibitions on the sale, offer for sale, or introduction or delivery for introduction into interstate commerce of the noncompliant low speed vehicles under their control after Oreion notified them that the subject noncompliance existed.

Authority: 49 U.S.C. 30118, 30120: delegations of authority at 49 CFR 1.95 and 501.8.

Jeffrey M. Giuseppe,
Acting Director, Office of Vehicle Safety Compliance.

[FR Doc. 2015-01908 Filed 1-30-15; 8:45 am]

BILLING CODE 4910-59-P